DEPARTMENT OF THE INTERIOR

Fish and Wildlife Service

Information Collection Renewal To Be Submitted to the Office of Management and Budget (OMB) for Approval Under the Paperwork Reduction Act; OMB Control No. 1018-0100; Grants Programs Authorized by the North American Wetlands Conservation Act (NAWCA)

AGENCY: Fish and Wildlife Service, Interior.

ACTION: Notice; request for comments.

SUMMARY: We (Fish and Wildlife Service, Service) plan to submit the collection of information described below to OMB for approval under the provisions of the Paperwork Reduction Act of 1995. We use the information collected to conduct our NAWCA grants programs in the manner prescribed by that Act, the Migratory Bird Conservation Commission, and the North American Wetlands Conservation Council. We also use the information to comply with Federal reporting requirements for grants awarded under the program.

DATES: You must submit comments on or before July 18, 2005.

ADDRESSES: Send your comments on the information collection to Hope Grey, Information Collection Clearance Officer, Fish and Wildlife Service, MS 222-ARLSQ, 4401 N. Fairfax Drive, Arlington, VA 22203 (mail); hope_grey@fws.gov (e-mail); or (703) 358-2269 (fax).

FOR FURTHER INFORMATION CONTACT: To request a copy of the information collection requirements or explanatory information, contact Hope Grey, Information Collection Clearance Officer, at the above addresses or by telephone at (703) 358-2482. For information related to the grant program, which is the subject of the information collection approval, please visit our Web site at http://birdhabitat.fws.gov.

SUPPLEMENTARY INFORMATION: The OMB regulations at 5 CFR part 1320, which implement provisions of the Paperwork Reduction Act of 1995 (44 U.S.C 3501 et seq.), require that interested members of the public and affected agencies have an opportunity to comment on information collection and recordkeeping activities (see 5 CFR 1320.8(d)). We will ask OMB to renew approval of the collection of information for the NAWCA grants programs. The current OMB control number for this collection of information is 1018-0100, which expires on August 31, 2005. We will request a 3-year term of approval for this information collection activity. Federal agencies may not conduct or sponsor and a person is not required to respond to a collection of information unless it displays a currently valid OMB control number.

The North American Waterfowl Management Plan (NAWMP), first signed in 1986, is a tripartite agreement among Canada, Mexico, and the United States to enhance, restore, and otherwise protect continental wetlands to benefit waterfowl and other wetlands-associated wildlife through partnerships between and among the private and public sectors. Because the 1986 NAWMP did not carry with it a mechanism to provide for broadly based and sustained financial support for wetland conservation activities, Congress passed and the President signed into law the NAWCA. The purpose of NAWCA, as amended, is to promote, through partnerships, long-term conservation of North American wetland ecosystems and the waterfowl and other migratory birds, fish, and wildlife that depend upon such habitat. Principal conservation actions supported by NAWCA are acquisition, enhancement, and restoration of wetlands and wetlands-associated habitat.

In addition to providing for a continuing and stable funding base, NAWCA establishes an administrative body, the North American Wetlands Conservation Council, made up of a State representative from each of the four flyways, three representatives from wetlands conservation organizations, the Secretary of the Board of the National Fish and Wildlife Foundation, and the Director of the Service. This Council is exempt from the requirements of the Federal Advisory Committee Act. The Council recommends funding of select wetlands conservation project proposals to the Migratory Bird Conservation Commission (MBCC). Competing for grant funds involves applications from partnerships that describe in substantial detail project locations, project resources, future benefits, and other characteristics, to meet the standards established by the Council and the requirements of NAWCA.

The Council Coordinator's office no longer publishes or distributes standard and small grants instructional booklets. Materials that describe the program and assist applicants in formulating project proposals for Council consideration are available on our Web site at http://birdhabitat.fws.gov. Persons who do not have access to the Web site may still obtain instructional materials by mail. There has been virtually no change in the scope and general nature of these instructions since the OMB first approved the information collection in 1999. Instructions assist applicants in formulating detailed project proposals for Council consideration. The instructional materials, including any hard or electronic copy and information or other instruments and Federal Register notices on requests for proposals, are the basis for this information collection request. Notices of funding availability are posted annually on the Grants.gov Web site (http://www.grants.gov) as well as in the Catalog of Federal Domestic Assistance. We use information collected under this program to respond to such needs as audits, program planning and management, program evaluation, Government Performance and Results Act reporting, Standard Form 424 (Application For Federal Assistance), grant agreements, budget reports and justifications, public and private requests for information, data provided to other programs for databases on similar programs, congressional inquiries, and reports required by NAWCA.

If the information were not collected, we would have to eliminate the program because it would not be possible to determine eligibility and the relative worth of the proposed projects. Reducing the frequency of collection would only reduce the frequency of windows for grant opportunities as the information collected is unique to each project proposal. Discontinuation of the program is not a viable option.

Title: Grants Programs Authorized by the North American Wetlands Conservation Act.

OMB Control Number: 1018-0100.

Form Number(s): None.

Frequency of Collection: Occasional. The Small Grants program has one project proposal period per year and the Standard Grants program has two per year. Annual reports are due 90 days after the anniversary date of the grant agreement. Final reports are due 90 days after the end of the project period. The project period is 2 years.

Description of Respondents: Households and/or individuals; businesses and/or other for-profits organizations; not-for-profit institutions; farms; Federal Government; and State, local and/or tribal governments.

Total Annual Burden Hours: 37,600. We estimate 80 hours for each Small Grant and 400 hours for each Standard Grant.

Number of Respondents: Approximately 150. We estimate 70 proposals for the Small Grants program and 80 for the Standard Grants program. Approximately half of the projects submitted are funded.

We interviewed five previous and current recipients of NAWCA grants with regard to three aspects of the grants programs; i.e., the availability of the information requested, the clarity of the instructions, and the annual burden hours for preparing applications and other materials, such as annual and final reports for both the Small Grants and the Standard Grants programs. All respondents advised that the information regarding descriptions of both programs and application instructions are readily available and the clarity of the information/instructions for both programs is good, even considering the level of detail and technical information required in the Standard Grants program application. Two of the three respondents who have had experience with the Small Grants program estimate 7 days (56 hours) to prepare an application, while the third respondent estimates 3 to 4 weeks (120 to 160 hours). Of course, an important factor determining this estimate is the complexity of the project. However, none of these estimates included the time involved in documentation of progress (providing annual and final reports, deeds, letters of fair market value, etc.) required during the course of the project. Thus, pending possible further refinement from responses in this notice, our original estimate of 80 hours is considered reasonable. With regard to Standard Grants, three respondents estimated 200 to 250 hours, 320 hours and 400 hours for the processes leading up to and including writing the application. Again, these estimates do not include the writing of annual and final reports and providing documentation of activities. It is very likely that the additional burden hours would increase in a way that would allow the 400-hour figure to continue to be used as a reasonable estimate. Some of the respondents offered that any time estimates could not possibly take into consideration factors that vary from project to project, such as technical competence, repetitive practice (applications), complexity of the project, and/or the level of grantsmanship that an applicant's grant writer may have invested in the application. Thus, it is very difficult to make meaningful estimates of annual burden hour estimates for application preparation, especially for Standard Grants. Some of the respondents indicated that the likelihood of success for funding is independent of the effort at any burden hour.

We invite your comments on: (1) Whether or not the collection of information is necessary for the proper performance of the NAWCA grants programs, including whether or not in the opinion of the respondent the information has practical utility; (2) the accuracy of our estimate of the annual hour burden of information requested; (3) ways to enhance the quality, utility and clarity of the information to be collected; and (4) ways to minimize the burden of the collection of information on respondents. The information collection in this program is part of a system of records covered by the Privacy Act (5 U.S.C. 552(a)).

Dated: May 2, 2005.
Hope Grey,
Information Collection Clearance Officer, Fish and Wildlife Service.

[FR Doc. 05-9947 Filed 5-18-05; 8:45 am]

BILLING CODE 4310-55-P